DEPARTMENT OF LABOR

Employment and Training Administration

[TA-W-56,992]

Bosch-Rexroth Corporation; Mobile Hydraulics Division Wooster, OH; Notice of Termination of Investigation

Pursuant to Section 221 of the Trade Act of 1974, an investigation was initiated on April 18, 2005 in response to petition filed by the United Automobile, Aerospace, Agricultural Implement Workers of America, Local 1239 on behalf of workers at Bosch-Rexroth Corporation, Mobile Hydraulics Division, Wooster, Ohio.

The petitioner has requested that the petition be withdrawn. Consequently, the investigation has been terminated.

Signed in Washington, DC, this 1st day of June, 2005.
Elliott S. Kushner,
Certifying Officer, Division of Trade Adjustment Assistance.

[FR Doc. E5-3038 Filed 6-10-05; 8:45 am]

BILLING CODE 4510-30-P